DEPARTMENT OF ENERGY

Environmental Management Site-Specific Advisory Board Chairs Meeting

AGENCY: Department of Energy.

ACTION: Notice of open meeting.

SUMMARY: This notice announces a meeting of the Environmental Management Site-Specific Advisory Board (EM SSAB) Chairs. The Federal Advisory Committee Act (Pub. L. 92-463, 86 Stat. 770) requires that public notice of this meeting be announced in the Federal Register.

DATES: Thursday, March 29, 2007, 8 a.m.-4:30 p.m.

Friday, March 30, 2007, 8 a.m.-12 p.m.

ADDRESSES: Suncoast Hotel & Casino, 9090 Alta Drive, Las Vegas, NV 89145, (702) 636-7111 or 1-877-677-7111.

FOR FURTHER INFORMATION CONTACT: E. Douglas Frost, Designated Federal Officer, U.S. Department of Energy, 1000 Independence Avenue, SW., Washington, DC 20585, (202) 586-5619.

SUPPLEMENTARY INFORMATION: Purpose of the Board: The purpose of the EM SSAB is to make recommendations to DOE in the areas of environmental restoration, waste management, and related activities.

Tentative Agenda

Thursday, March 29, 2007

8 a.m. Welcome/Introductions

8:30 a.m. Round Robin: Top Three Issues—Each Chair

9:30 a.m. Presentation by Assistant Secretary James Rispoli

10:15 a.m. Discussion of the Federal Advisory Committee Act

12 p.m Lunch

1:30 p.m. Office of Engineering & Technology Presentation

3 p.m. Break

3:15 p.m. EM SSAB Discussion

4:15 p.m. Wrap-Up

Friday, March 30, 2007

8:30 a.m. Presentation by Environmental Management Advisory Board Vice Chair

9 a.m. Update/Discussion: Remote-Handled Transuranic Waste

10 a.m. EM SSAB Wrap-Up

11 a.m. Closing Remarks

12 p.m. Adjourn

Public Participation: The meeting is open to the public. Written statements may be filed either before or after the meeting with the Designated Federal Officer, E. Douglas Frost, at the address above or by phone at (202) 586-5619. Individuals who wish to make oral statements pertaining to agenda items should also contact E. Douglas Frost. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes of this meeting will be available for public review and copying at the U.S. Department of Energy Freedom of Information Public Reading Room, 1E-190, Forrestal Building, 1000 Independence Avenue, SW., Washington, DC 20585 between 9 a.m. and 4.p.m., Monday-Friday except Federal holidays. Minutes will also be available by calling E. Douglas Frost at (202) 586-5619 and will be posted at http://www.em.doe.gov/stakepages/ssabchairs.aspx.

Issued at Washington, DC on March 9, 2007.
Rachel M. Samuel,
Deputy Advisory Committee Management Officer.

[FR Doc. E7-4757 Filed 3-14-07; 8:45 am]

BILLING CODE 6450-01-P